DEPARTMENT OF ENERGY

Federal Energy Regulatory Commission

Combined Notice of Filings #1

Take notice that the Commission received the following electric corporate filings:

Docket Numbers: EC20-82-000.

Applicants: Golden Fields Solar III, LLC.

Description: Application for Authorization Under Section 203 of the Federal Power Act, et al. of Golden Fields Solar III, LLC.

Filed Date: 7/20/20.

Accession Number: 20200720-5185.

Comments Due: 5 p.m. ET 8/10/20.

Take notice that the Commission received the following exempt wholesale generator filings:

Docket Numbers: EG20-216-000.

Applicants: Tatanka Ridge Wind, LLC.

Description: Notice of Self-Certification of Exempt Wholesale Generator Status of Tatanka Ridge Wind, LLC.

Filed Date: 7/21/20.

Accession Number: 20200721-5074.

Comments Due: 5 p.m. ET 8/11/20.

Take notice that the Commission received the following electric rate filings:

Docket Numbers: ER19-404-004.

Applicants: Southwestern Public Service Company, Public Service Company of Colorado.

Description: Compliance filing: 2020-07-20 OATT-Att O-SPS-ADIT-Amnd Compliance_ER19-404 to be effective 2/1/2020.

Filed Date: 7/20/20.

Accession Number: 20200720-5129.

Comments Due: 5 p.m. ET 8/10/20.

Docket Numbers: ER20-2014-000.

Applicants: Rattlesnake Flat, LLC.

Description: Second Supplement to June 8, 2020 Rattlesnake Flat, LLC tariff filing.

Filed Date: 7/20/20.

Accession Number: 20200720-5089.

Comments Due: 5 p.m. ET 7/30/20.

Docket Numbers: ER20-2087-000.

Applicants: Gichi Noodin Wind Farm, LLC.

Description: Supplement to June 17-2020 Gichi Noodin Wind Farm, LLC tariff filing.

Filed Date: 7/20/20.

Accession Number: 20200720-5183.

Comments Due: 5 p.m. ET 7/30/20.

Docket Numbers: ER20-2098-000.

Applicants: Titan Solar 1, LLC.

Description: Second Supplement to June 18, 2020 Titan Solar 1, LLC tariff filing.

Filed Date: 7/16/20.

Accession Number: 20200716-5176.

Comments Due: 5 p.m. ET 8/6/20.

Docket Numbers: ER20-2462-000.

Applicants: PacifiCorp.

Description: § 205(d) Rate Filing: Moon Lake Revised Wheeling Agreement Rev 5 to be effective 9/20/2020.

Filed Date: 7/21/20.

Accession Number: 20200721-5090.

Comments Due: 5 p.m. ET 8/11/20.

Docket Numbers: ER20-2463-000.

Applicants: Alcoa Power Generating Inc.

Description: Tariff Cancellation: Cancellation of Long Sault Division Open Access Transmission Tariff to be effective 9/20/2020.

Filed Date: 7/21/20.

Accession Number: 20200721-5122.

Comments Due: 5 p.m. ET 8/11/20.

Docket Numbers: ER20-2464-000.

Applicants: Alcoa Power Generating Inc.

Description: Tariff Cancellation: Cancellation of Tapoco Division Open Access Transmission Tariff to be effective 9/20/2020.

Filed Date: 7/21/20.

Accession Number: 20200721-5123.

Comments Due: 5 p.m. ET 8/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 21, 2020.
Nathaniel J. Davis, Sr.,
Deputy Secretary.

[FR Doc. 2020-16190 Filed 7-24-20; 8:45 am]

BILLING CODE 6717-01-P